DEPARTMENT OF HEALTH AND HUMAN SERVICES

Centers for Disease Control and Prevention

[60Day-07-0707]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4604 or send comments to Maryam Daneshvar, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2005 Lead Disclosure Rule Public Awareness Survey—Extension—National Center for Environmental Health (NCEH), Centers for Disease Control and Prevention (CDC).

Background and Brief Description

The proposed 2005 Lead Disclosure Rule Public Awareness Survey assesses small and medium-sized rental property owners' self-reported awareness of and compliance with the Lead Disclosure Rule. The Lead Disclosure Rule requires property owners to disclose to prospective tenants and buyers the presence of lead paint and lead-based paint hazards in residential properties built before 1978, if known by the owners. The rule was published under the authority of Title X of the Housing and Community Development Act of 1992 by the Department of Housing and Urban Development (HUD) at 24 CFR part 35, subpart A, and by the Environmental Protection Agency (EPA) at 40 CFR 745, subpart F.

Childhood lead poisoning, while on the decline, remains a threat to the health and well-being of young children across the United States. In accordance with the Healthy People 2010 goal to “eliminate elevated blood lead levels in children,” there is a need for primary prevention of childhood lead poisoning. Primary prevention is the removal of lead hazards from a child's environment before the child is exposed. Ensuring compliance with the Lead Disclosure Rule is one component of a primary prevention strategy.

As part of this evaluation effort, CDC is interested in the perception of the Lead Disclosure Rule by sectors of the property owner population that have been targeted less often for enforcement of the rule. This survey of small and medium-sized rental property owners (owning fewer than 50 rental units) is the first effort of its kind to capture this particular population's self-reported awareness of and compliance with the Lead Disclosure Rule.

Approval was granted for the information collection request, set to expire 01/31/2008. However, due to unforeseeable and unavoidable delays in coordinating the interventions, an extension of the approved information request is required to complete data collection. An extension of 2 years is requested to allow for further unavoidable delays. There are no proposed changes to the survey design or questionnaire.

The survey was to be administered twice in four U.S. cities during 2005 and 2006. Two of the cities are involved in a compliance assistance and enforcement intervention by HUD. The other two cities are control cities (without such an intervention). For all four cities, CDC is conducting a cross-sectional, “before and after” study design. Each respondent is surveyed only once, and participation is voluntary. Respondents are asked to complete a brief written survey and return the survey anonymously via the addressed, stamped envelope CDC will provide. There is no cost to respondents except the time to complete the survey.

The population surveyed using this questionnaire are small and medium property owners who rent housing units to tenants. These owners may not consider themselves to be in business or may not have leasing offices. Regardless, they are technically small business owners. They have been identified by publicly-available tax assessor records. A sample of 3,000 such owners will be surveyed, with a likely response from approximately 1,000 small and medium property owners. We believe this is a good use of public burden because this particular population has never been surveyed as to their awareness of and compliance with the Lead Disclosure Rule. The anticipated burden per respondent has been kept to a minimum by asking only a small number of essential questions. Additionally, the questionnaire is anonymous so that no individual property owner or small business can be identified. There is no cost to the respondents other than their time.

Estimated Annualized Burden Hours
Respondents | No. of respondents | No. of responses per respondent | Average burden per response (in hours) | Total burden (in hours)
Targeted Property Owners | 1000 | 1 | 15/60 | 250

Dated: August 8, 2007.
Maryam I. Daneshvar,
Acting Reports Clearance Officer, Centers for Disease Control and Prevention.

[FR Doc. E7-15895 Filed 8-13-07; 8:45 am]

BILLING CODE 4163-18-P